DEPARTMENT OF TRANSPORTATION

Federal Aviation Administration

14 CFR Part 71

[Docket No. FAA-2010-0241; Airspace Docket No. 10-AGL-4]

RIN 2120-AA66

Modification of VOR Federal Airways V-82, V-175, V-191, and V-430 in the Vicinity of Bemidji, MN

AGENCY: Federal Aviation Administration (FAA), DOT.

ACTION: Final rule.

SUMMARY: This action modifies the legal description of VHF omnidirectional range (VOR) Federal Airways V-82, V-175, V-191, and V-430 in the vicinity of Bemidji, MN. The Bemidji (BJI) VOR, that forms a segment of these airways, has been out of service for over two years due to terrain and new construction signal interference problems and is planned for decommissioning. An airway intersection reporting point is being established in the same location as the BJI VOR to restore a navigable route structure to the area similar to what existed prior to the loss of service from the navigation aid.

DATES: Effective date 0901 UTC, September 23, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Wednesday, May 5, 2010, the FAA published in the Federal Register a notice of proposed rulemaking (NPRM) to modify V-82, V-175, V-191, and V-430 in the vicinity of Bemidji, MN (75 FR 24504). Interested parties were invited to participate in this rulemaking effort by submitting written comments on this proposal to the FAA. One comment was received in response to the proposal.

The commenter requested the FAA provide at least a fix to replace the Bemidji VOR. The FAA addressed this comment in the proposal section of the NPRM. Specifically, the FAA stated, “To restore the navigable airway structure in the vicinity of Bemidji, MN, the FAA is proposing to establish the BLUOX fix in the same location currently depicting the BJI VOR navigation aid.” The BLUOX fix, as proposed, is defined by intersecting airway radials.

Subsequent to publication, the FAA took action to change the Decatur (DEC) VHF omni-directional range/tactical air navigation (VORTAC) name and identifier to the Adders VORTAC (AXC). The DEC VORTAC name change will only affect V-191 in this rulemaking action.

The Rule

This action amends Title 14 Code of Federal Regulations (14 CFR) part 71 by modifying V-82, V-175, V-191, and V-430 in the vicinity of Bemidji, MN. The BJI VOR navigation aid was removed from service in April 2007, and is being decommissioned. To restore the navigable airway structure in the vicinity of Bemidji, MN, the FAA is establishing the BLUOX fix in the same location currently depicting the BJI VOR. Also, V-430 is rerouted between the BLUOX fix and Grand Forks VOR (GFK), ND, over the Thief River Falls VOR (TVF), MN. Except for V-191, which is being modified to terminate at the Grand Rapids VOR (GPZ), MN, the FAA is modifying the V-82, V-175, and V-430 legal descriptions to replace the BJI VOR with an airways intersection point defining the BLUOX fix.

Additionally, V-191 is being amended to reflect the Decatur VORTAC name change to Adders VORTAC. The Decatur VORTAC and Decatur Airport share the same name and facility identifier (DEC), but are not co-located and are greater than 5 nautical miles apart. To eliminate the possibility of confusion, and a potential flight safety issue, the Decatur VORTAC is being renamed the Adders VORTAC and assigned a new facility identifier (AXC). Accordingly, the V-191 legal description will be amended to reflect the Adders, IL, [VORTAC] name change.

VOR Federal airways are published in paragraph 6010(a) of FAA Order 7400.9T signed August 27, 2009 and effective September 15, 2009, which is incorporated by reference in 14 CFR 71.1. The VOR Federal Airways listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies VOR Federal airways in the vicinity of Bemidji, MN.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the FAA Order 7400.9T, Airspace Designations and Reporting Points, signed August 27, 2009, and effective September 15, 2009, is amended as follows:

Paragraph 6010(a) Domestic VOR Federal Airways

* * * * *

V-82 [Modified]

From Baudette, MN; INT Baudette 194° and Brainerd, MN, 331° radials; Brainerd; Gopher, MN; Farmington, MN; Rochester, MN; Nodine, MN; to Dells, WI.

* * * * *

V-175 [Modified]

From Malden, MO; Vichy, MO; Hallsville, MO; Macon, MO; Kirksville, MO; Des Moines, IA; Sioux City, IA; Worthington, MN; Redwood Falls, MN; Alexandria, MN; Park Rapids, MN; INT Park Rapids 003° and Roseau, MN, 160° radials; Roseau; to Winnipeg, MB, Canada. The airspace within Canada is excluded.

* * * * *

V-191 [Modified]

From Troy, IL; Adders, IL; Roberts, IL; INT Roberts 008° and Joliet, IL, 067° radials; Northbrook, IL; Badger, WI; Oshkosh, WI; Rhinelander, WI; Ironwood, MI; Duluth, MN; Hibbing, MN; to Grand Rapids, MN.

* * * * *

V-430 [Modified]

From Cut Bank, MT, 10 miles, 74 miles 55 MSL; Harve, MT, 14 miles, 100 miles 50 MSL; Glasgow, MT; INT Glasgow 100° and Williston, ND, 263° radials, 22 miles, 33 miles 55 MSL, Williston; Minot, ND; Devils Lake, ND; Grand Forks, ND; Thief River Falls, MN; INT Thief River Falls 122° and Grand Rapids, MN, 292° radials; Grand Rapids; Duluth, MN; Ironwood, MI; Iron Mountain, MN; to Escanaba, MI.

Issued in Washington, DC, on July 16, 2010.
Edith V. Parish,
Manager, Airspace and Rules Group.

[FR Doc. 2010-17953 Filed 7-26-10; 8:45 am]

BILLING CODE 4910-13-P